FEDERAL COMMUNICATIONS COMMISSION

[CG Docket No. 03-123; DA 06-1175]

Consumer & Governmental Affairs Bureau Reminds States and Telecommunications Relay Services (TRS) Providers That the Annual Summary of Consumer Complaints Concerning TRS is Due Monday, July 3, 2006

AGENCY: Federal Communications Commission.

ACTION: Notice.

SUMMARY: In this document, the Commission notifies the public, state Telecommunications Relay Services (TRS) programs, and interstate TRS providers that the annual consumer complaint log summaries are due. To assist the Commission in monitoring the service quality of TRS providers, the Commission requires state TRS programs and TRS providers that provide interstate TRS, interstate STS, interstate Spanish relay, interstate captioned telephone relay, VRS, and IP Relay to maintain and submit consumer complaints that allege violations of the federal TRS mandatory minimum standards. Complaint log summaries shall include, at a minimum, the number of complaints received that allege a violation of the federal TRS mandatory minimum standards, the date of the complaint, the nature of the complaint, the date of its resolution, and an explanation of the resolution.

DATES: State TRS programs and interstate TRS providers must file their annual consumer complaint log summary no later than July 3, 2006.

ADDRESSES: Federal Communications Commission, 445 12th Street, SW., Washington, DC 20554.

FOR FURTHER INFORMATION CONTACT: Pam Gregory, (202) 418-2498 (voice), (202) 418-1169 (TTY), or e-mail: Pam.Gregory@fcc.gov.

SUPPLEMENTARY INFORMATION: This is a summary of the Commission's document, DA 06-1175, released May 31, 2006. This document notifies state TRS programs and interstate TRS providers that the annual complaint log summary for complaints received between June 1, 2005, and May 31, 2006, is due on Monday, July 3, 2006. All filings must reference CG Docket 03-123. States and interstate TRS providers who choose to submit by paper must submit an original and four copies of each filing on or before Monday, July 3, 2006. To expedite the processing of complaint log summaries, states and interstate TRS providers are encouraged to submit an additional copy to Attn: Pam Gregory, Federal Communications Commission, Consumer & Governmental Affairs Bureau, 445 12th Street, SW., Washington, DC 20554 or by e-mail at Pam.Gregory@fcc.gov. States and interstate TRS providers should also submit electronic disk copies of their complaint log summaries on a standard 3.5 inch diskette formatted in an IBM compatible format using Word 97 or compatible software. The diskette should be submitted in “read-only” mode and must be clearly labeled with the State or interstate TRS provider name, the filing date and captioned “Complaint Log Summary.”

Filings can be sent by hand or messenger delivery, by electronic media, by commercial overnight courier, or by first-class or overnight U.S. Postal Service mail (although the Commission continues to experience delays in receiving U.S. Postal Service mail). The Commission's contractor will receive hand-delivered or messenger-delivered paper filings or electronic media for the Commission's Secretary at 236 Massachusetts Avenue, NE., Suite 110, Washington, DC 20002. The filing hours at this location are 8 a.m. to 7 p.m. All hand deliveries must be held together with rubber bands or fasteners. Any envelopes must be disposed of before entering the building. Commercial and electronic media sent by overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission, 445 12th Street, SW., Room TW-B204, Washington, DC 20554.

The full text of document DA 06-1175 and copies of any subsequently filed documents in this matter will be available for public inspection and copying during regular business hours at the FCC Reference Information Center, Portals II, 445 12th Street, SW., Room CY-A257, Washington, DC 20554. Document DA 06-1175 and copies of subsequently filed documents in this matter may also be purchased from the Commission's duplicating contractor at Portals II, 445 12th Street, SW., Room CY-B402, Washington, DC 20554. Customers may contact the Commission's contractor at their Web site http://www.bcpiweb.com or call 1-800-378-3160.

To request materials in accessible formats for people with disabilities (Braille, large print, electronic files, audio format), send an e-mail to fcc504@fcc.gov or call the Consumer & Governmental Affairs Bureau at (202) 418-0530 (voice), (202) 418-0432 (TTY). Document DA 06-1175, can also be downloaded in Word or Portable Document Format (PDF) at: http://www.fcc.gov/cgb/dro.

Synopsis

State TRS programs should report all complaints made to the state agency, as well as those made to the state's TRS provider. TRS providers that provide interstate TRS, interstate STS, interstate Spanish relay, interstate captioned telephone relay, VRS, and IP Relay are required to submit complaint log summaries. These logs are intended to provide an early warning system to the Commission of possible service quality problems.

Additionally, this information allows the Commission to determine whether a state or interstate TRS provider has appropriately addressed consumer complaints and to spot national trends that may lend themselves to coordinated solutions. This information further enables states to learn how other states are resolving complaints.

Federal Communications Commission.
Jay Keithley,
Deputy Chief, Consumer & Governmental Affairs Bureau.

[FR Doc. E6-9944 Filed 6-27-06; 8:45 am]

BILLING CODE 6712-01-P